DEPARTMENT OF COMMERCE

Bureau of Economic Analysis

Proposed Information Collection; Comment Request; Survey: Institutional Remittances to Foreign Countries

ACTION: Notice.

SUMMARY: The Department of Commerce, as part of its continuing effort to reduce paperwork and respondent burden, invites the general public and other Federal agencies to comment on proposed and/or continuing information collections, as required by the Paperwork Reduction Act of 1995, Public Law 104-13 (44 U.S.C. 3506(c)(2)(A)).

DATES: Written comments must be submitted on or before June 28, 2010. June 25, 2010

ADDRESSES: Direct all written comments to Diana Hynek, Departmental Paperwork Clearance Officer, Department of Commerce, Room 6625, 14th and Constitution Avenue, NW., Washington, DC 20230, or via e-mail at dHynek@doc.gov.

FOR FURTHER INFORMATION CONTACT: Requests for additional information or copies of the information collection instrument and instructions should be directed to Robert Becker, Current Account Services Branch, Balance of Payments Division, (BE-58), Bureau of Economic Analysis, U.S. Department of Commerce, Washington, DC 20230; phone: (202) 606-9576; fax: (202) 606-5314; or via e-mail at robert.becker@bea.gov.

SUPPLEMENTARY INFORMATION:

I. Abstract

The Institutional Remittances to Foreign Countries Survey (Form BE-40) is used by the Bureau of Economic Analysis (BEA) for compiling the U.S. international transactions accounts (ITAs), which BEA publishes quarterly in news releases, on its Web site, and in its monthly journal, the Survey of Current Business. These accounts provide a statistical summary of all U.S. international transactions and are a principal federal economic indicator. In addition, they provide data for other U.S. economic measures and accounts, contributing particularly to the National Income and Product Accounts. The ITAs are used extensively by both government and private organizations for national and international economic policy formulation and for analytical purposes. The information collected in this survey is used to develop the “private remittances” portion of the ITAs. Without this information, an integral component of the ITAs would be omitted. No other government agency collects comprehensive quarterly data on institutional remittances of funds to foreign counties. There are no changes proposed to the form or instructions.

Potential respondents are U.S. religious, charitable, educational, scientific and similar organizations that voluntarily agree to provide data regarding transfers to foreign residents and organizations and their expenditures in foreign countries.

II. Method of Collection

Survey forms are mailed to potential respondents in January of each year; respondents expected to file on a quarterly basis are sent multiple copies. Quarterly reports are due 30 days after the close of each calendar or fiscal quarter and annual reports are due 90 days after the close of the calendar or fiscal year.

The information is collected quarterly from organizations remitting $1 million or more each year and annually for organizations remitting at least $100,000 but less than $1 million each year. Organizations with remittances of less than $100,000 in the year covered by the report are exempt from reporting.

III. Data

OMB Control Number: 0608-0002.

Form Number: BE-40.

Type of Review: Regular submission.

Affected Public: Not-for-profit institutions.

Estimated Number of Respondents: 1,220.

Estimated Time per Response: 1 hour, 30 minutes.

Estimated Total Annual Burden Hours: 2,294.

Estimated Total Annual Cost to Public: $0.

Respondent's Obligation: Voluntary.

Legal Authority: Bretton Woods Agreement Act, Section 8, and E.O. 10033, as amended.

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 21, 2010.
Glenna Mickelson,
Management Analyst, Office of Chief Information Officer.

[FR Doc. 2010-9647 Filed 4-26-10; 8:45 am]

BILLING CODE 3510-06-P